DEPARTMENT OF LABOR

Bureau of Labor Statistics

Business Research Advisory Council; Notice of Meetings and Agenda

The regular Spring meetings of the Business Research Advisory Council and its committees will be held April 11 and 12, 2007. All of the meetings will be held in the Conference Center of the Postal Square Building, 2 Massachusetts Avenue, NE., Washington, DC.

Wednesday—April 11 (Conference Rooms 1 & 2)

10-11:30 a.m.—Committee on Productivity and Foreign Labor Statistics

1. Expansion of international comparisons of productivity and compensation (Wolodar Lysko and Jessica Sincavage).

2. KLEMS multifactor productivity (MFP) for major industry groups (Steve Rosenthal).

3. MFP for detailed manufacturing industries (DIPS staff).

4. Effects of capitalization of R&D in the national accounts on major sector MFP (Larry Rosenblum).

5. Discussion of agenda items for the Fall 2007 meeting.

1-2:30 p.m.—Committee on Safety and Health Statistics

1. Undercount activities.

a. Quality assurance survey.

b. Other activities.

2. Workplace violence prevention survey results.

3. Case and demographic data, 2005.

4. Final CFOI estimates, 2005.

5. Internet data collection.

6. Discussion of agenda items for the Fall 2007 meeting.

3-4:30 p.m.—Committee on Price Indexes

1. Associate Commissioner update (Mike Horrigan).

2. Airline indexes in OPLC—results from the methodology team study.

3. Treatment of utility costs in the CPI rental equivalence index.

4. Discussion of agenda items for the Fall 2007 meeting.

Thursday—April 12 (Conference Rooms 1 & 2)

8:30-10 a.m.—Committee on Employment and Unemployment Statistics

1. New Current Employment Statistics (CES) data to be released April 6 on all employee regular hours and earnings and gross monthly earnings.

2. Plans for the next evaluation of our biennial employment projections: progress, goals, and issues.

3. CPS program analysis of trends in labor force participation.

4. Discussion of agenda items for the Fall 2007 meeting.

10:30 a.m.-12 p.m.—Council Meeting

1. Council chairperson's remarks.

2. Deputy Commissioner's remarks.

1:30-3 p.m.—Committee on Compensation and Working Conditions

1. NCS Data Collection—Maximizing value while minimizing burden.

a. NCS provides a wealth of data on employee wages and benefits.

b. NCS constantly looks for ways to obtain these data without undue burden on our respondents.

c. NCS reaches out to respondents and other users to make sure they're aware of this valuable source of information.

d. NCS wants your input on what more we should be doing to minimize burden and maximize utility.

2. Keeping NCS fresh—accounting for change in the economy.

a. Area sample reselection.

b. Establishment sample rotation.

c. Selection of occupations.

d. SOC revision.

3. Update on initiatives and action items.

a. Collective bargaining agreements available on-line.

b. Pay relative processes.

c. Local ECI research.

4. Discussion of agenda items for the Fall 2007 meeting.

The meetings are open to the public. Persons wishing to attend these meetings as observers should contact Tracy A. Jack, Liaison, Business Research Advisory Council, at 202-691-5869.

Philip L. Rones,
Deputy Commissioner.

[FR Doc. E7-5577 Filed 3-26-07; 8:45 am]

BILLING CODE 4510-24-P